LIBRARY OF CONGRESS

Copyright Royalty Board

[Docket No. 2010-2 CRB SD 2004—2007]

Distribution of the 2004 Through 2007 Satellite Royalty Funds

AGENCY: Copyright Royalty Board, Library of Congress.

ACTION: Notice soliciting comments on motion of Phase I claimants for partial distribution.

SUMMARY: The Copyright Royalty Judges are soliciting comments on a motion of Phase I claimants for partial distribution in connection with the 2004 through 2007 satellite royalty funds.

DATES: Comments are due on or before February 26, 2010.

ADDRESSES: Comments may be sent electronically to crb@loc.gov. In the alternative, send an original, five copies, and an electronic copy on a CD either by mail or hand delivery. Please do not use multiple means of transmission. Comments may not be delivered by an overnight delivery service other than the U.S. Postal Service Express Mail. If by mail (including overnight delivery), comments must be addressed to: Copyright Royalty Board, P.O. Box 70977, Washington, DC 20024-0977. If hand delivered by a private party, comments must be brought to the Library of Congress, James Madison Memorial Building, LM-401, 101 Independence Avenue, SE, Washington, DC 20559-6000. If delivered by a commercial courier, comments must be delivered to the Congressional Courier Acceptance Site located at 2nd and D Street, NE., Washington, DC. The envelope must be addressed to: Copyright Royalty Board, Library of Congress, James Madison Memorial Building, LM-403, 101 Independence Avenue, SE., Washington, DC 20559-6000.

FOR FURTHER INFORMATION CONTACT: Richard Strasser, Senior Attorney, or Gina Giuffreda, Attorney Advisor, by telephone at (202) 707-7658 or e-mail at crb@loc.gov.

SUPPLEMENTARY INFORMATION: On October 27, 2009, representatives of the Phase I claimant categories (the “Phase I Claimants”) ¹ filed with the Judges a motion requesting a partial distribution of 50% of the 2004, 2005, 2006, and 2007 satellite royalty funds pursuant to section 801(b)(3)(C) of the Copyright Act. That section requires that the Judges publish a notice in the Federal Register seeking responses to the motion for partial distribution to ascertain whether any claimant entitled to receive such fees has a reasonable objection to the requested distribution before ruling on the motion. Consequently, by today's Notice, the Judges seek comments from interested claimants on whether any reasonable objection exists that would preclude the distribution of 50% of the 2004, 2005, 2006 and 2007 satellite royalty funds to the Phase I claimants.

¹ The “Phase I Claimants” are the Program Suppliers, Joint Sports Claimants, Broadcaster Claimants Group, Music Claimants (American Society of Composers, Authors and Publishers, Broadcast Music, Inc., and SESAC, Inc.), and Devotional Claimants.

The Motion of the Phase I Claimants for Partial Distribution is posted on the Copyright Royalty Board Web site at http://www.loc.gov/crb.

Dated: January 22, 2010.
William J. Roberts,
Copyright Royalty Judge.

[FR Doc. 2010-1646 Filed 1-26-10; 8:45 am]

BILLING CODE 1410-72-P